NATIONAL AERONAUTICS AND SPACE ADINISTRATION

[Notice 01-004]

Notice of Prospective Patent License

AGENCY: National Aeronautics and Space Administration.

ACTION: Notice of prospective patent license.

SUMMARY: NASA hereby gives notice that CJAB Associates, LLP, of Houston, TX, has applied for a partially exclusive license to practice the inventions described and claimed in U.S. Patent No. 5,153,132, entitled “Three-Dimensional Co-Culture Process;” U.S. Patent No. 5,153,133, entitled “Method for Culturing Mammalian Cells in a Horizontally Rotated Bioreactor;” U.S. Patent No. 5,155,034, entitled “Three-Dimensional Cell to Tissue Assembly Process;” U.S. Patent No. 5,155,035, entitled “Method for Culturing Mammalian Cells in a Perfused Bioreactor;” U.S. Patent No. 5,308,764, entitled “Multi-Cellular Three Dimensional Living Mammalian Tissue;” U.S. Patent No. 5,496,722, entitled “Method for Producing Non-Neoplastic, 3-Dimensional Mammalian Tissue and Cell Aggregates under Microgravity Culture Conditions and the Products Produced Thereby;” U.S. Patent No. 5,627,021, entitled “Multi-Cellular, Three-Dimensional Living Mammalian Tissue;” U.S.Patent No. 5,846,807, entitled “Media Compositions for Three-Dimensional Mammalian Tissue Growth Under Microgravity Culture Conditions;” U.S. Patent No. 5,858,783, entitled “Production of Normal Mammalian Organ Culture Using a Medium Containing Mem-Alpha, Leibovitz L-15, Glucose Galactose Fructose;” U.S. Patent No. 5,851,816, entitled “Cultured High-Fidelity Three Dimensional Human Urogenital Tract Carcinomas and Process;” and U.S. Patent No. 6,117,674, entitled “Horizontal Rotating-Wall Vessel Propagation in Vitro Human Tissue Models.” Each of the above U.S. Patents is assigned to the United States of America as represented by the Administrator of the National Aeronautics and Space Administration. Written objections to the prospective grant of a license should be sent to the Johnson Space Center.

DATES: Responses to this notice must be received by March 19, 2001.

FOR FURTHER INFORMATION CONTACT: James Cate, Patent Attorney, NASA Johnson Space Center, Mail Stop HA, Houston, TX 77058-8452; telephone (281) 483-1001.

Dated: January 9, 2001.
Edward A. Frankle,
General Counsel.

[FR Doc. 01-1125 Filed 1-12-01; 8:45 am]

BILLING CODE 7510-01-U